SMALL BUSINESS ADMINISTRATION

[Disaster Declaration #20407 and #20408; NEW MEXICO Disaster Number NM-20004]

Presidential Declaration Amendment of a Major Disaster for the State of New Mexico

AGENCY: U.S. Small Business Administration.

ACTION: Amendment 3.

SUMMARY: This is an amendment of the Presidential declaration of a major disaster for the State of New Mexico (FEMA-4795-DR), dated 06/20/2024.

Incident: South Fork Fire, Salt Fire, and Flooding.

Incident Period: 06/17/2024 and continuing.

DATES: Issued on 08/15/2024.

Physical Loan Application Deadline Date: 10/19/2024.

Economic Injury (EIDL) Loan Application Deadline Date: 03/20/2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for the State of New Mexico, dated 06/20/2024, is hereby amended to extend the deadline for filing applications for physical damages as a result of this disaster to 10/19/2024.

All other information in the original declaration remains unchanged.

(Catalog of Federal Domestic Assistance Number 59008)

Rafaela Monchek,
Acting Associate Administrator, Office of Disaster Recovery & Resilience.

[FR Doc. 2024-18915 Filed 8-22-24; 8:45 am]

BILLING CODE 8026-09-P